DEPARTMENT OF HOMELAND SECURITY

Federal Emergency Management Agency

44 CFR Part 65

[Docket ID FEMA-2010-0003]

Changes in Flood Elevation Determinations

AGENCY: Federal Emergency Management Agency, DHS.

ACTION: Final rule.

SUMMARY: Modified Base (1% annual-chance) Flood Elevations (BFEs) are finalized for the communities listed below. These modified BFEs will be used to calculate flood insurance premium rates for new buildings and their contents.

DATES: The effective dates for these modified BFEs are indicated on the following table and revise the Flood Insurance Rate Maps (FIRMs) in effect for the listed communities prior to this date.

ADDRESSES: The modified BFEs for each community are available for inspection at the office of the Chief Executive Officer of each community. The respective addresses are listed in the table below.

FOR FURTHER INFORMATION CONTACT: Luis Rodriguez, Chief, Engineering Management Branch, Federal Insurance and Mitigation Administration, Federal Emergency Management Agency, 500 C Street, SW., Washington, DC 20472, (202) 646-4064, or (e-mail) luis.rodriguez1@dhs.gov.

SUPPLEMENTARY INFORMATION: The Federal Emergency Management Agency (FEMA) makes the final determinations listed below of the modified BFEs for each community listed. These modified BFEs have been published in newspapers of local circulation and ninety (90) days have elapsed since that publication. The Deputy Federal Insurance and Mitigation Administrator has resolved any appeals resulting from this notification.

The modified BFEs are not listed for each community in this notice. However, this final rule includes the address of the Chief Executive Officer of the community where the modified BFE determinations are available for inspection.

The modified BFEs are made pursuant to section 206 of the Flood Disaster Protection Act of 1973, 42 U.S.C. 4105, and are in accordance with the National Flood Insurance Act of 1968, 42 U.S.C. 4001 et seq., and with 44 CFR part 65.

For rating purposes, the currently effective community number is shown and must be used for all new policies and renewals.

The modified BFEs are the basis for the floodplain management measures that the community is required either to adopt or to show evidence of being already in effect in order to qualify or to remain qualified for participation in the National Flood Insurance Program (NFIP).

These modified BFEs, together with the floodplain management criteria required by 44 CFR 60.3, are the minimum that are required. They should not be construed to mean that the community must change any existing ordinances that are more stringent in their floodplain management requirements. The community may at any time enact stricter requirements of its own or pursuant to policies established by other Federal, State, or regional entities.

These modified BFEs are used to meet the floodplain management requirements of the NFIP and also are used to calculate the appropriate flood insurance premium rates for new buildings built after these elevations are made final, and for the contents in those buildings. The changes in BFEs are in accordance with 44 CFR 65.4.

National Environmental Policy Act. This final rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This final rule is not a significant regulatory action under the criteria of section 3(f) of Executive Order 12866 of September 30, 1993, Regulatory Planning and Review, 58 FR 51735.

Executive Order 13132, Federalism. This final rule involves no policies that have federalism implications under Executive Order 13132, Federalism.

Executive Order 12988, Civil Justice Reform. This final rule meets the applicable standards of Executive Order 12988.

List of Subjects in 44 CFR Part 65

Flood insurance, Floodplains, Reporting and recordkeeping requirements.

Accordingly, 44 CFR part 65 is amended to read as follows:

PART 65—[AMENDED]

1. The authority citation for part 65 continues to read as follows:

Authority: 42 U.S.C. 4001 et seq.; Reorganization Plan No. 3 of 1978, 3 CFR, 1978 Comp., p. 329; E.O. 12127, 44 FR 19367, 3 CFR, 1979 Comp., p. 376.

§ 65.4 [Amended]

2. The tables published under the authority of § 65.4 are amended as follows:

State and county | Location and case No. | Date and name of newspaper where notice was published | Chief executive officer of community | Effective date of modification | Community No.
Alabama: Madison (FEMA Docket No.: B-1121) | Unincorporated areas of Madison County (09-04-6850P) | February 12, 2010; February 19, 2010; Madison County Record | The Honorable Mike Gillespie, Chairman, Madison County Commission, Courthouse 700, 100 Northside Square, Huntsville, AL 35801 | June 21, 2010 | 010151
Arizona: Maricopa (FEMA Docket No.: B-1118) | City of Surprise (09-09-2388P) | March 11, 2010; March 18, 2010; Arizona Business Gazette | The Honorable Lyn Truitt, Mayor, City of Surprise, 16000 North Civic Center Plaza, Surprise, AZ 85374 | February 25, 2010 | 040053
Maricopa (FEMA Docket No.: B-1118) | Unincorporated areas of Maricopa County (09-09-2388P) | March 11, 2010; March 18, 2010; Arizona Business Gazette | The Honorable Andrew W. Kunasek, Chairman, Maricopa County Board of Supervisors, 301 West Jefferson Street, 10th Floor, Phoenix, AZ 85003 | February 25, 2010 | 040037
California: Riverside (FEMA Docket No.: B-1123) | City of Riverside (09-09-1506P) | March 10, 2010; March 17, 2010; The Press-Enterprise | The Honorable Ronald O. Loveridge, Mayor, City of Riverside, 3900 Main Street, Riverside, CA 92522 | February 26, 2010 | 060260
Colorado:
Arapahoe (FEMA Docket No.: B-1121) | City of Englewood (10-08-0001P) | February 25, 2010; March 5, 2010; The Denver Post | The Honorable Jim Woodward, Mayor, City of Englewood, 1000 Englewood Parkway, Englewood, CO 80110 | February 18, 2010 | 085074
Arapahoe (FEMA Docket No.: B-1121) | City of Sheridan (10-08-0001P) | February 25, 2010; March 5, 2010; The Denver Post | The Honorable Dallas Hall, Mayor, City of Sheridan, 4101 South Federal Boulevard, Sheridan, CO 80110 | February 18, 2010 | 080018
Connecticut: Hartford (FEMA Docket No.: B-1129) | Town of Windsor Locks (09-01-0574P) | November 13, 2009; November 20, 2009; Hartford Courant | The Honorable Steven N. Wawruck, Jr., First Selectman, 50 Church Street, Windsor Locks, CT 06096 | November 4, 2009 | 090042
Florida:
Alachua (FEMA Docket No.: B-1118) | Unincorporated areas of Alachua County (09-04-5275P) | March 16, 2010; March 22, 2010; The Gainesville Sun | The Honorable Cynthia Moore Chestnut, Chairman, Alachua County Board of Commissioners, P.O. Box 2877, Gainesville, FL 32602 | February 26, 2010 | 120001
Lee (FEMA Docket No.: B-1121) | City of Bonita Springs (09-04-3113P) | February 10, 2010; February 17, 2010; Fort Myers News-Press | The Honorable Ben L. Nelson, Jr., Mayor, City of Bonita Springs, 9101 Bonita Beach Road, Bonita Springs, FL 34135 | June 17, 2010 | 120680
Miami-Dade (FEMA Docket No.: B-1123) | City of Sunny Isles Beach (09-04-8292P) | March 15, 2010; March 22, 2010; Miami Daily Business Review | The Honorable Norman S. Edelcup, Mayor, City of Sunny Isles Beach, 18070 Collins Avenue, Suite 250, Sunny Isles Beach, FL 33160 | February 26, 2010 | 120688
Monroe (FEMA Docket No.: B-1118) | Unincorporated areas of Monroe County (09-04-8247P) | March 8, 2010; March 15, 2010; Key West Citizen | The Honorable Sylvia Murphy, Mayor, Monroe County, 102050 Overseas Highway, Suite 234, Key Largo, FL 33037 | February 26, 2010 | 125129
Polk (FEMA Docket No.: B-1121) | Unincorporated areas of Polk County (09-04-5686P) | February 10, 2010; February 17, 2010; The Polk County Democrat | The Honorable Bob English, Chairman, Polk County Board of Commissioners, P.O. Box 9005, Drawer BC01, Bartow, FL 33831 | June 17, 2010 | 120261
Seminole (FEMA Docket No.: B-1118) | City of Lake Mary (10-04-0356P) | March 5, 2010; March 12, 2010; Orlando Sentinel | The Honorable David Mealor, Mayor, City of Lake Mary, P.O. Box 958445, Lake Mary, FL 32795 | February 24, 2010 | 120416
Volusia (FEMA Docket No.: B-1129) | City of DeLand (09-04-0784P) | November 9, 2009; November 16, 2009; The Beacon | The Honorable Robert F. Apgar, Mayor, City of DeLand, 120 South Florida Avenue, DeLand, FL 32720 | March 16, 2010 | 120307
Volusia (FEMA Docket No.: B-1129) | Unincorporated areas of Volusia County (09-04-0784P) | November 9, 2009; November 16, 2009; The Beacon | The Honorable Frank Bruno, Chair, Volusia County Council, Thomas C. Kelly Administration Center, 123 West Indiana Avenue, DeLand, FL 32720 | March 16, 2010 | 125155
Georgia:
Clayton (FEMA Docket No.: B-1123) | City of Morrow (09-04-4735P) | February 12, 2010; Februrary 19, 2010; Clayton News Daily | The Honorable Jim Millirons, Mayor, City of Morrow, 1500 Morrow Road, Morrow, GA 30260 | June 21, 2010 | 130045
Cobb (FEMA Docket No.: B-1123) | City of Smyrna (09-04-6852P) | March 12, 2010; March 19, 2010; Marietta Daily Journal | The Honorable A. Max Bacon, Mayor, City of Smyrna, 2800 King Street, Smyrna, GA 30080 | February 26, 2010 | 130057
Cobb (FEMA Docket No.: B-1123) | Unincorporated areas of Cobb County (09-04-6852P) | March 12, 2010; March 19, 2010; Marietta Daily Journal | The Honorable Samuel S. Olens, Chairman, Cobb County Board of Commissioners, 100 Cherokee Street, Marietta, GA 30090 | February 26, 2010 | 130052
Douglas (FEMA Docket No.: B-1121) | Unincorporated areas of Douglas County (09-04-6891P) | February 5, 2010; February 12, 2010; Douglas County Sentinel | The Honorable Tom Worthan, Douglas County Chairman, 8700 Hospital Drive, Douglasville, GA 30134 | June 14, 2010 | 130306
Fulton (FEMA Docket No.: B-1123) | City of Atlanta (09-04-6852P) | March 12, 2010; March 19, 2010; Fulton Daily Report | The Honorable Kasim Reed, Mayor, City of Atlanta, 55 Trinity Avenue, Atlanta, GA 30303 | February 26, 2010 | 135160
Gwinnett (FEMA Docket No.: B-1129) | City of Buford (09-04-5712P) | March 11, 2010; March 18, 2010; Gwinnett Daily Post | The Honorable Phillip Beard, Chairman, City of Buford Board of Commissioners, 2300 Buford Highway, Buford, GA 30518 | March 29, 2010 | 130323
Idaho: Teton (FEMA Docket No.: B-1118) | Unincorporated areas of Teton County (09-10-0567P) | February 18, 2010; February 25, 2010; Teton Valley News | The Honorable Larry Young, Chairman, Teton County Board of Commissioners, 150 Courthouse Drive, Driggs, ID 83422 | June 25, 2010 | 160230
Kansas: Johnson (FEMA Docket No.: B-1118) | City of Overland Park (09-07-1561P) | March 10, 2010; March 17, 2010; The Johnson County Sun | The Honorable Carl Gerlach, Mayor, City of Overland Park, 8500 Santa Fe Drive, Overland Park, KS 66212 | February 26, 2010 | 200174
Kentucky:
Lexington-Fayette Urban County Government (FEMA Docket No.: B-1121) | Lexington-Fayette Urban County Government (09-04-2657P) | February 12, 2010; February 19, 2010; Lexington Herald-Leader | The Honorable Jim Newberry, Mayor, Lexington-Fayette Urban County Government, 200 East Main Street, Lexington, KY 40507 | June 21, 2010 | 210067
Lexington-Fayette Urban County Government (FEMA Docket No.: B-1118) | Lexington-Fayette Urban County Government (09-04-6917P) | March 15, 2010; March 22, 2010; Lexington Herald-Leader | The Honorable Jim Newberry, Mayor, Lexington-Fayette Urban County Government, 200 East Main Street, 12th Floor, Lexington, KY 40507 | March 29, 2010 | 210067
Massachusetts:
Barnstable (FEMA Docket No.: B-1129) | Town of Falmouth (09-01-1270P) | November 6, 2009; November 13, 2009; The Enterprise | Mr. Robert L. Whritenour, Jr., Town of Falmouth, Manager, 59 Town Hall Square, Falmouth, MA 02540 | October 30, 2009 | 255211
Barnstable (FEMA Docket No.: B-1129) | Town of Falmouth (10-01-0479P) | January 8, 2010; January 15, 2010; The Enterprise | Mr. Robert L. Whritenour, Jr., Town of Falmouth, Manager, 59 Town Hall Square, Falmouth, MA 02540 | December 31, 2009 | 255211
Missouri:
Cass (FEMA Docket No.: B-1121) | City of Peculiar (09-07-1059P) | February 11, 2010; February 18, 2010; The Journal | The Honorable Ernie Jungmeyer, Mayor, City of Peculiar, 908 Kendall Road, Peculiar, MO 64078 | June 18, 2010 | 290878
Cass (FEMA Docket No.: B-1121) | Unincorporated areas of Cass County (09-07-1059P) | February 11, 2010; February 18, 2010; The Journal | The Honorable Gary Mallory, Cass County Presiding Commissioner, 102 East Wall Street, Harrisonville, MO 64701 | June 18, 2010 | 290783
New Mexico: Dona Ana (FEMA Docket No.: B-1121) | City of Las Cruces (09-06-0638P) | February 5, 2010; February 12, 2010; Las Cruces Sun-News | The Honorable Ken Miyagishima, Mayor, City of Las Cruces, P.O. Box 20000, Las Cruces, NM 88004 | June 14, 2010 | 355332
North Carolina:
Cumberland (FEMA Docket No.: B-1121) | City of Fayetteville (09-04-2351P) | February 5, 2010; February 12, 2010; Fayetteville Observer | The Honorable Anthony G. Chavonne, Mayor, City of Fayetteville, 433 Hay Street, Fayetteville, NC 28301 | June 14, 2010 | 370077
Durham (FEMA Docket No.: B-1118) | City of Durham (08-04-3771P) | February 24, 2010; March 3, 2010; The Herald-Sun | The Honorable William V. Bell, Mayor, City of Durham, 101 City Hall Plaza, Durham, NC 27701 | July 1, 2010 | 370086
Durham (FEMA Docket No.: B-1121) | City of Durham (09-04-4161P) | February 5, 2010; February 12, 2010; The Herald-Sun | The Honorable William V. Bell, Mayor, City of Durham, 101 City Hall Plaza, Durham, NC 27701 | January 29, 2010 | 370086
Forsyth (FEMA Docket No.: B-1123) | City of Winston-Salem (09-04-7422P) | January 5, 2010; January 12, 2010; Winston-Salem Journal | The Honorable Allen Joines, Mayor, City of Winston-Salem, P.O. Box 2511, Winston-Salem, NC 27102 | May 12, 2010 | 375360
Guilford (FEMA Docket No.: B-1123) | City of Greensboro (09-04-6072P) | November 30, 2009; December 7, 2009; Greensboro News & Record | The Honorable Yvonne J. Johnson, Mayor, City of Greensboro, P.O. Box 3136, Greensboro, NC 27402 | April 6, 2010 | 375351
McDowell (FEMA Docket No.: B-1123) | Unincorporated areas of McDowell County (09-04-1274P) | January 22, 2010; January 29, 2010; The McDowell News | Mr. Charles Abernathy, McDowell County Manager, 60 East Court Street, Marion, NC 28752 | June 1, 2010 | 370148
Orange (FEMA Docket No.: B-1123) | Town of Carrboro (09-04-7185P) | November 20, 2009; November 27, 2009; Chapel Hill Herald | The Honorable Mark Chilton, Mayor, Town of Carrboro, 301 West Main Street, Carrboro, NC 27510 | March 29, 2010 | 370275
Orange (FEMA Docket No.: B-1123) | Town of Chapel Hill (08-04-4997P) | December 9, 2009; December 16, 2009; Chapel Hill Herald | The Honorable Kevin Foy, Mayor, Town of Chapel Hill, 405 Martin Luther King Jr. Boulevard, Chapel Hill, NC 27514 | April 15, 2010 | 370180
Wake (FEMA Docket No.: B-1121) | Town of Cary (09-04-4769P) | February 24, 2010; March 3, 2010; The Cary News and The News & Observer | The Honorable Harold Weinbrecht, Mayor, Town of Cary, P.O. Box 8005, Cary, NC 27512 | July 1, 2010 | 370238
Wake (FEMA Docket No.: B-1121) | Town of Morrisville (09-04-4769P) | February 24, 2010; March 3, 2010; The News & Observer | The Honorable Jan Faulkner, Mayor, Town of Morrisville, 100 Town Hall Drive, Morrisville, NC 27560 | July 1, 2010 | 370242
Wake (FEMA Docket No.: B-1123) | City of Raleigh (09-04-4425P) | January 20, 2010; January 27, 2010; The News & Observer | The Honorable Charles Meeker, Mayor, City of Raleigh, P.O. Box 590, 222 West Hargett Street, Raleigh, NC 27602 | May 27, 2010 | 370243
Wake (FEMA Docket No.: B-1123) | Unincorporated areas of Wake County (08-04-4911P) | November 30, 2009; December 7, 2009; The News & Observer | Mr. David C. Cooke, Wake County Manager, 337 South Salisbury Street, Suite 1100, Raleigh, NC 27602 | April 6, 2010 | 370368
Texas:
Tarrant (FEMA Docket No.: B-1129) | City of Benbrook (09-06-1461P) | February 9, 2010; February 16, 2010; Star-Telegram | The Honorable Jerry Dittrich, Mayor, City of Benbrook, P.O. Box 26569, Benbrook, TX 76126 | June 16, 2010 | 480586
Tarrant (FEMA Docket No.: B-1129) | City of Blue Mound (09-06-1669P) | January 29, 2010; February 5, 2010; Star-Telegram | The Honorable Alan Hooks, Mayor, City of Blue Mound, 301 South Blue Mound Road, Blue Mound, TX 76131 | June 7, 2010 | 480587
Tarrant (FEMA Docket No.: B-1129) | City of Colleyville (09-06-2624P) | November 18, 2009; November 25, 2009; Colleyville Courier | The Honorable David Kelly, Mayor, City of Colleyville, 100 Main Street, Colleyville, TX 76034 | November 5, 2009 | 480590
Tarrant (FEMA Docket No.: B-1129) | City of Fort Worth (09-06-1461P) | February 9, 2010; February 16, 2010; Star-Telegram | The Honorable Michael J. Moncrief, Mayor, City of Fort Worth, 1000 Throckmorton Steet, Fort Worth, TX 76102 | June 16, 2010 | 480596
Tarrant (FEMA Docket No.: B-1129) | City of Fort Worth (09-06-1669P) | January 29, 2010; February 5, 2010; Star-Telegram | The Honorable Michael J. Moncrief, Mayor, City of Fort Worth, 1000 Throckmorton Street, Fort Worth, TX 76102 | June 7, 2010 | 480596
Tarrant (FEMA Docket No.: B-1129) | City of Grapevine (09-06-2624P) | November 18, 2009; November 25, 2009; Grapevine Courier | The Honorable William D. Tate, Mayor, City of Grapevine, P.O. Box 95104, Grapevine, TX 76099 | November 5, 2009 | 480598
Webb (FEMA Docket No.: B-1124) | City of Laredo (09-06-1964P) | March 12, 2010; March 19, 2010; Laredo Morning Times | The Honorable Raul G. Salinas, Mayor, City of Laredo, 1110 Houston Street, Laredo, TX 78040 | February 26, 2010 | 480651
Utah: Weber (FEMA Docket No.: B-1121) | City of Ogden (09-08-0583P) | February 12, 2010; February 19, 2010; Standard Examiner | The Honorable Matthew R. Godfrey, Mayor, City of Ogden, 2549 Washington Boulevard, Suite 910, Ogden, UT 84401 | June 21, 2010 | 490189
Virginia: Loudoun (FEMA Docket No.: B-1118) | Unincorporated areas of Loudoun County (09-03-1375P) | March 10, 2010; March 17, 2010; Loudoun Times-Mirror | The Honorable Scott K. York, Loudoun County Chairman, P.O. Box 7000, Leesburg, VA 20177 | March 22, 2010 | 510090
Wyoming: Natrona (FEMA Docket No.: B-1121) | City of Casper (08-08-0742P) | February 11, 2010; February 18, 2010; Casper Star-Tribune | The Honorable Kenyne Schlager, Mayor, City of Casper, 200 North David Street, Casper, WY 82601 | June 18, 2010 | 560037

(Catalog of Federal Domestic Assistance No. 97.022, “Flood Insurance.”)

Dated: December 7, 2010.
Sandra K. Knight,
Deputy Federal Insurance and Mitigation Administrator, Mitigation, Department of Homeland Security, Federal Emergency Management Agency.

[FR Doc. 2010-32542 Filed 12-27-10; 8:45 am]

BILLING CODE 9110-12-P